DEPARTMENT OF JUSTICE

Drug Enforcement Administration

Manufacturer of Controlled Substances; Notice of Registration

By Notice dated October 8, 1999, and published in the Federal Register on October 18, 1999, (64 FR 56225), Cedarburg Laboratories, Inc., 870 Badger Circle, Grafton, Wisconsin 53024, made application by letter to the Drug Enforcement Administration (DEA) to be registered as a bulk manufacturer of propiram (9649), a basic class of controlled substance listed in Schedule I.

The firm will manufacture propiram in the process of manufacturing other targeted test compounds for another firm.

DEA has considered the factors in Title 21, United States Code, Section 823(a) and determined that the registration of Cedarburg Laboratories, Inc. to manufacture propiram is consistent with the public interest at this time. DEA has investigated the company to ensure that the company's registration is coninspection and testing of the company's physical security systems, verification of the company's compliance with state and local laws, and a review of the company's background and history. Therefore, pursuant to 21 U.S.C. 823 and 28 CFR 0.100 and 0.104, the Deputy Assistant Administrator, Office of Diversion Control, hereby orders that the application submitted by the above firm for registration as a bulk manufacturer of the basic class of controlled substance listed above is granted.

Dated: February 4, 2000.
John H. King,
Deputy, Assistant Administrator, Office of Diversion Control, Drug Enforcement Administration.

[FR Doc. 00-3142 Filed 2-9-00; 8:45 am]

BILLING CODE 4410-09-M